OFFICE OF PERSONNEL MANAGEMENT

Notice of Revision of Standard Form 62

AGENCY: U.S. Office of Personnel Management.

ACTION: Notice of revision.

SUMMARY: The U.S. Office of Personnel Management (OPM) has revised Standard Form (SF) 62, Agency Request To Pass Over A Preference Eligible or Object To An Eligible, to update legal citations to reflect the December 31, 1994, subset of the Federal Personnel Manual and the recent changes to 5 CFR parts 332, 338, 339, and 731. The SF 62 is used by agencies to pass over a preference eligible or object to an eligible based on qualification, medical, or conduct reasons. The agency must submit appropriate documentation for its decision. The revised form is PDF fillable and is located on OPM's Web site at http://www.opm.gov/forms/html.sf.asp for agency use. This version supersedes all previous versions. Please destroy any versions you may have in stock.

DATES: The revised form is effective June 22, 2011.

FOR FURTHER INFORMATION CONTACT: Mike Gilmore by telephone at (202) 606-2429; by fax at (202) 606-2329; by TTY at (202) 418-3134; or by e-mail at Michael.gilmore@opm.gov.

U.S. Office of Personnel Management.
John Berry,
Director.

[FR Doc. 2011-12533 Filed 5-20-11; 8:45 am]

BILLING CODE 6325-39-P